DEPARTMENT OF ENERGY

Federal Energy Regulatory Commission

Combined Notice of Filings #1

Take notice that the Commission received the following electric corporate filings:

Docket Numbers: EC11-119-001.

Applicants: Gabelli, Mario J., GGCP, Inc., GGCP Holdings, LLC, GAMCO Investors, Inc.

Description: Request for Reauthorization and Extension of Blanket Authorizations Under Section 203 of the Federal Power Act and Request for Expedited Consideration of Mario J. Gabelli, et al.

Filed Date: 2/12/15.

Accession Number: 20150212-5210.

Comments Due: 5 p.m. ET 3/5/15.

Docket Numbers: EC15-74-000.

Applicants: Quantum Choctaw Power, LLC.

Description: Application for Authorization of Disposition of Jurisdictional Facilities under FPA Section 203 of Quantum Choctaw Power, LLC.

Filed Date: 2/12/15.

Accession Number: 20150212-5217.

Comments Due: 5 p.m. ET 3/5/15.

Docket Numbers: EC15-75-000.

Applicants: Bluco Energy, LLC.

Description: Application Under Section 203 of Bluco Energy, LLC.

Filed Date: 2/12/15.

Accession Number: 20150212-5219.

Comments Due: 5 p.m. ET 3/5/15.

Take notice that the Commission received the following exempt wholesale generator filings:

Docket Numbers: EG15-47-000.

Applicants: Shafter Solar, LLC.

Description: Notice of Self-Certification of Exempt Wholesale Generator Status of Shafter Solar, LLC.

Filed Date: 2/13/15.

Accession Number: 20150213-5145.

Comments Due: 5 p.m. ET 3/6/15.

Take notice that the Commission received the following electric rate filings:

Docket Numbers: ER13-80-005.

Applicants: Tampa Electric Company.

Description: Compliance filing per 35: OATT Order No. 1000 Amendment of Compliance Filing to be effective 1/1/2015.

Filed Date: 2/13/15.

Accession Number: 20150213-5065.

Comments Due: 5 p.m. ET 3/6/15.

Docket Numbers: ER13-86-005.

Applicants: Duke Energy Florida, Inc., Duke Energy Carolinas, LLC.

Description: Compliance filing per 35: Additional Enrollees Filing to be effective 1/1/2015.

Filed Date: 2/13/15.

Accession Number: 20150213-5073.

Comments Due: 5 p.m. ET 3/6/15.

Docket Numbers: ER13-104-006.

Applicants: Florida Power & Light Company.

Description: Compliance filing per 35: FPL Order No. 1000 Further Regional Compliance Filings to be effective 1/1/2015.

Filed Date: 2/13/15.

Accession Number: 20150213-5146.

Comments Due: 5 p.m. ET 3/6/15.

Docket Numbers: ER14-2518-002.

Applicants: New York Independent System Operator, Inc.

Description: Tariff Amendment per 35.17(b): Deficiency Response, request to change effective date—Outage States to be effective 5/1/2015.

Filed Date: 2/12/15.

Accession Number: 20150212-5198.

Comments Due: 5 p.m. ET 3/5/15.

Docket Numbers: ER15-838-001.

Applicants: AEP Texas Central Company.

Description: Tariff Amendment per 35.17(b): TCC-San Roman Wind I Interconnection Agreement Amendment to be effective 1/29/2015.

Filed Date: 2/13/15.

Accession Number: 20150213-5088.

Comments Due: 5 p.m. ET 3/6/15.

Docket Numbers: ER15-1033-000.

Applicants: PJM Interconnection, L.L.C.

Description: § 205(d) rate filing per 35.13(a)(2)(iii): Original Service Agreement No. 4093; Queue Y2-055 (WMPA) to be effective 1/14/2015.

Filed Date: 2/12/15.

Accession Number: 20150212-5171.

Comments Due: 5 p.m. ET 3/5/15.

Docket Numbers: ER15-1034-000.

Applicants: PJM Interconnection, L.L.C.

Description: § 205(d) rate filing per 35.13(a)(2)(iii): Service Agreement No. 3754; Queue No. Y3-036 to be effective 1/13/2015.

Filed Date: 2/12/15.

Accession Number: 20150212-5177.

Comments Due: 5 p.m. ET 3/5/15.

Docket Numbers: ER15-1035-000.

Applicants: Southern California Edison Company.

Description: § 205(d) rate filing per 35.13(a)(2)(iii): Three GIAs with Boomer Solar 8 LLC, Boomer Solar 22 LLC, Boomer Solar 14 LLC to be effective 2/14/2015.

Filed Date: 2/13/15.

Accession Number: 20150213-5001.

Comments Due: 5 p.m. ET 3/6/15.

Docket Numbers: ER15-1036-000.

Applicants: ISO New England Inc.

Description: ISO New England Inc. submits 4th Quarter 2014 Capital Budget Report.

Filed Date: 2/12/15.

Accession Number: 20150212-5211.

Comments Due: 5 p.m. ET 3/5/15.

Docket Numbers: ER15-1037-000.

Applicants: Wabash Valley Power Association, Inc.

Description: § 205(d) rate filing per 35.13(a)(2)(iii): Amendment to Section 3.002.001.001—Amended T&LF Agreement to be effective 1/1/2015.

Filed Date: 2/13/15.

Accession Number: 20150213-5074.

Comments Due: 5 p.m. ET 3/6/15.

Docket Numbers: ER15-1038-000.

Applicants: Duke Energy Indiana, Inc.

Description: § 205(d) rate filing per 35.13(a)(2)(iii): Amended TL&F Agreement to be effective 1/1/2015.

Filed Date: 2/13/15.

Accession Number: 20150213-5075.

Comments Due: 5 p.m. ET 3/6/15.

Docket Numbers: ER15-1039-000.

Applicants: Homer City Generation, L.P.

Description: § 205(d) rate filing per 35.13(a)(2)(iii): Homer City Offer of Settlement to be effective 2/12/2015.

Filed Date: 2/13/15.

Accession Number: 20150213-5090.

Comments Due: 5 p.m. ET 3/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 13, 2015.
Nathaniel J. Davis, Sr.,
Deputy Secretary.

[FR Doc. 2015-03759 Filed 2-24-15; 8:45 am]

BILLING CODE 6717-01-P